DEPARTMENT OF HEALTH AND HUMAN SERVICES

Health Resources and Services Administration

Notice of a HRSA-Initiated Supplemental Award to Recipients in the Reaching Practicing Maternal and Child Health (MCH) Professionals in Underserved Areas Through Education and Training Program

AGENCY: Health Resources and Services Administration (HRSA), Department of Health and Human Services (HHS).

ACTION: Notice of a HRSA-Initiated Supplemental Award to Recipients in the Reaching Practicing Maternal and Child Health (MCH) Professionals in Underserved Areas through Education and Training Program.

SUMMARY: HRSA announces the award of a supplement of $705,246 for the Reaching Practicing MCH Professionals in Underserved Areas through Education and Training Program (hereafter Program) recipients. The supplement will allow the current four recipients, during the period of June 1, 2019-May 31, 2020, to continue supporting the development and implementation of in-depth training tailored to the specific needs of MCH public health professionals practicing in underserved communities, including rural and frontier areas and Indian reservations.

SUPPLEMENTARY INFORMATION: Intended Recipients of Award: The Regents of the University of Colorado, The University of Texas Health Science Center at Houston, University of New Mexico, and University of Washington.

Amount of Non-Competitive Awards: $705,246.

Period of Supplemental Funding: 06/01/2019-05/31/2020.

CFDA Number: 93.110.

Authority: Social Security Act, Title V, § 501(a)(2) (42 U.S.C. 701(a)(2)).

Justification: The purpose of the Program is to strengthen the nation's (59 states and jurisdictions) public health system by developing the MCH public health workforce in underserved and geographically isolated communities, including rural, frontier areas, and Indian reservations. The purpose of the supplement from HRSA is to extend the performance period of the current four recipients to continue supporting the development and implementation of in-depth training tailored to the specific needs of MCH public health professionals practicing in underserved communities. These four recipients received their original awards for the period of June 1, 2014 through May 31, 2019 through a competitive process. The non-competitive supplement will allow grantees to complete training activities consistent with approved activities in their competing applications. Activities will include outreach and training for MCH professionals in tribal communities and training for MCH professionals on pressing topics such as mental health and substance use disorders. This supports the overall goal of the Program to strengthen the nation's public health system by developing the MCH public health workforce in underserved and geographically isolated communities.

FOR FURTHER INFORMATION CONTACT: Samantha Croffut, Division of Maternal and Child Health Workforce Development, Maternal and Child Health Bureau, HRSA, 5600 Fishers Lane, Room 18W62, Rockville, MD 20852, Phone: 301-443-3139, Email: SCroffut@hrsa.gov.

Grantee/organization name | Grant No. | State | FY 2018 authorized funding level | FY 2019 proposed funding level
The Regents of the University of Colorado | T04MC26890 | CO | $175,866 | Up to $175,866.
The University of Texas Health Science Center at Houston | T04MC12785 | TX | $176,634 | Up to $176,634.
University of New Mexico | T04MC26891 | NM | $176,138 | Up to $176,138.
University of Washington | T04MC26892 | WA | $176,608 | Up to $176,608.

Dated: April 26, 2019.
George Sigounas,
Administrator.

[FR Doc. 2019-08877 Filed 5-1-19; 8:45 am]

BILLING CODE 4165-15-P